ENVIRONMENTAL PROTECTION AGENCY

[FRL-7244-9]

Proposed CERCLA Administrative Cost Recovery Settlement; Angelillo Property Superfund Site

AGENCY: Environmental Protection Agency (EPA).

ACTION: Notice; request for public comment.

SUMMARY: In accordance with section 122(i) of the Comprehensive Environmental Response, Compensation, and Liability Act, as amended (“CERCLA”), 42 U.S.C. 9622(i), notice is hereby given of a proposed administrative settlement for recovery of past response costs concerning the Angelillo Property Superfund Site site in Southington, Connecticut with the settling parties listed in the Supplementary Information portion of this notice. The settlement requires the settling parties to pay $626,000 to the Hazardous Substance Superfund. The settlement includes a covenant not to sue the settling parties pursuant to section 107(a) of CERCLA, 42 U.S.C. 9607(a). For thirty (30) days following the date of publication of this notice, the Agency will receive written comments relating to the settlement. The Agency will consider all comments received and may modify or withdraw its consent to the settlement if comments received disclose facts or considerations which indicate that the settlement is inappropriate, improper, or inadequate. The Agency's response to any comments received will be available for public inspection at the EPA Records Center, 1 Congress Street, Boston, MA 02114-2023 (Telephone No. 617-918-1440).

DATES: Comments must be submitted on or before August 12, 2002.

ADDRESSES: The proposed settlement is available for public inspection at the EPA Records Center, 1 Congress Street, Boston, MA 02114-2023 (Telephone No. 617-918-1440). A copy of the proposed settlement may be obtained from Audrey Zucker, U.S. Environmental Protection Agency, Region 1, 1 Congress Street, Suite 1100 (SES), Boston, MA 02114-2023 (Telephone No. 617-918-1788). Comments should reference the Angelillo Property Superfund Site in Southington, Connecticut and EPA Docket No.1-2001-0031 and should be addressed to Audrey Zucker, U.S. Environmental Protection Agency, Region 1, 1 Congress Street, Suite 1100(SES), Boston, MA 02114-2023.

FOR FURTHER INFORMATION CONTACT: Audrey Zucker, U.S. Environmental Protection Agency, Region 1, 1 Congress Street, Suite 1100(SES), Boston, MA 02114-2023 (Telephone No. 617-918-1788).

SUPPLEMENTARY INFORMATION: The following is a list of settling parties, including settling federal parties, to the proposed settlement:

A.R. Sandri, Inc.; Acushnet Company, Titleist Golf Division; AGC Incorporated; Albany International—Related Parties; Allen Mfg. Co. (The Danaher Companies); Allied Printing Services,Inc.; Allied-Signal—Related Parties (Honeywell International Inc.); American Biltrite, Inc.; American Cyanamid—Related Parties (Cytec Industries Inc.); American Electro Products, Inc.; American Hoechst—Related Parties (CNA Holdings, Inc.); American Optical (Warner Lambert Co.); American Powdered Metals; American Standard, Inc.—Related Parties; American Thread Company, The (Coats American, Inc.); Amperex Corporation (Philips Electronics North America Corporation); Amstar Corporation (Flex-Pack Printing Plant n/k/a Tate & Lyle North American Sugars, Inc.); Anaconda—Related Parties (Atlantic Richfield Company); Anchorage, Inc., The; Anco Packaging Corporation (CCL Label, Inc.); Anderson & Sons, Inc.; Apco Products, Inc.; Ashland Chemical Company—Related Parties; Avco Lycoming Division (Textron Inc.); Avery-Dennison Corp.—Related Parties (Dennison Manufacturing Company); B.A. Ballou & Company; Bailey Corp.—Related Parties; Ball Metal Container Group; Bangor Punta Corp.; Barden Corp.—Related Parties; BASF Corporation—Related Parties; Bedoukian Research, Inc.; Belding Hemingway—Belding Corticelli Thread Co.; Benjamin Moore & Company; Benmont Corporation (Textron, Inc.); Berol—Related Parties (Newell Rubbermaid, Inc.); BIC Corporation (Waterman BIC Pen Corp.)(BIC Pen Corp.); Biltrite Corporation, The; Black & Decker Corp.—Related Parties (Emhart Industries, Inc.); Borden Chemical—Related Parties; Brake Systems, Inc.; Brand-Rex—Related Parties (Akzo Nobel, Inc. f/k/a Akzona)(BICC Cables Corporation); Branson—Related Parties (Branson Ultrasonics Corp.); Bridgeport Machine Inc./Textron, Inc. (Textron, Inc.); Bull Metal Products; Burndy Corporation—Related Parties; C & M Corporation; C. Cowles & Company; C.E.

Bradley Laboratories, Inc.; C.F. Jameson & Co., Inc.; C.L. Hauthaway & Sons Corp.; C.R. Bard, Inc.; California Products Corporation; Camger Chemical Systems, Inc.; Camvac Intn'l, Inc.: Dunmore Corporation/Rexham (Rexam, Inc.); Capitol Records, Inc.; Carlisle Corp.—Tensolite Division; Carris Reels, Inc.—Related Parties; Champion International Corporation—Champion Retail (International Paper Company); Chartpak; Chelsea Industries—Related Parties (Maynard Plastics Company)(Pyrotex); Chemical Coatings (Providence, RI); CHR Industries, Inc.; Chromium Process Co.; Ciba Specialty Chemical Corporation (Novartis Corporation f/k/a Ciba-Geigy Corporation and Hamblet & Hayes Company); City of Torrington; Compo Industries—Related Parties; Cooper Industries—Related Parties (Cooper Industries, Inc.)(Belden Wire & Cable Company); Custom Chemicals Co.; Custom Coatings & Laminating Company; D.G.C. Auto Body; Dampney Company, Inc.; Darworth Company; Deitsch Plastics Co., Inc.; Delker Corporation, The/Robert Hunsicker; Design Label Manufacturing Company; Dexter Corporation—Related Parties (Akzo Nobel Aerospace Coatings, Inc.); Dielectric Polymers, Inc.; Dupont—Related Parties (E.I. du Pont de Nemours and Company); Durham Manufacturing Company, The; E.J. Balsser, Inc. (E.J. Gaisser, Inc.); Easco Aluminum/Eastern Extrusion Corp.; Eastern Holding Corporation; Eastern Lacquer Corp./Eastern Chem-Lac; Electrocal; Electrolux Corporation; Energy Maintenance Corporation; Engelhard Corporation; Enthone Incorporated; Ethan Allen—Related Parties; Fairchild—Related Parties (Schlumberger Technology Corporation); Fairprene Industrial Products Company, Inc. (BBA U.S. Holdings, Inc.); Fenner America, Ltd. (Fenner, Inc.); Fibre Leather Manufacturing Corp.; Fish Chem. & Equip., Inc./Fish-Callahan Chemical; Franklin Pumping Service (Franklin Environmental Services, Inc.); Freudenberg-NOK—Related Parties; Frismar, Inc.; GenCorp—Related Parties; General Chemical Corp.—Related

Parties; General Electric Company—Related Parties; General Foods Corp.—Carton and Container Div. (Kraft Foods North America, Inc.); General Motors Corp.—Related Parties; George Newman & Co.—Related Parties; George Schmitt & Co., Inc.—Related Parties; Giering Metal Finishing Company, Inc.; Gillette Company, The; Gintzler Graphics, Inc.; Goldshield—Related Parties; GTE Sylvania Corporation—Related Parties (GTE Operations Support Incorporated); Guard All Chemical Company, Inc.; Guilford Gravure, Inc.; H.B. Fuller Company—Related Parties; Haartz Auto Fabric Company; Halliday Lithographs—Related Parties (Quebecor Printing Halliday); Hampden Papers, Inc.—Related Parties; Hampford Research, Inc.—Hampford Chemicals; Handy & Harmon—Related Parties; Harris Semiconductor, Inc. (Harris Corporation); Hartford Courant, The; Hazen Paper Company; Helikon Furniture Co., Inc.; Heminway & Bartlett Manufacturing Co.; Heminway Corporation; Hercules Incorporated; Hicks & Otis Prints, Inc.; Holyoke Card and Paper Company; Hopewell Precision, Inc.; Howe Folding Furniture Company; Hoyt & Worthen Tanning Corporation; Hubbard Hall Chemical Company (Hubbard Hall, Inc.); Humphrey Chemical Company; The I.C.I. Americas—Related Parties; Ideal Tape Co., Inc.; Indusol, Inc.; Industrial Polymers & Chemicals, Inc.; Ingersoll-Rand Company—Related Parties; International Paper Company—Related Parties; Ionics, Incorporated; Irving Tanning Company—Related Parties; James River Corporation—Related Parties (Fort James Corporation/Fort James Operating Company) (Eastern Holding Corporation); John L. Armitage & Company; K.J. Quinn and Co.—Related Parties (K.J. Quinn & Co., Inc.) (Courtaulds Aerospace, Inc./PRC-DeSoto International); Kanthal Corporation—Related Parties; Keeler & Long, Inc.; KEM Plastic Playing Cards, Inc.; Keystone Cement Company; King Industries, Inc.; L.E. Carpenter & Company; Lakewood Metal Products; Larson Tool & Stamping Co.; Lightolier Corporation—Related Parties (Genlyte Thomas Group, LLC);

Lilly Industries, Inc.—Related Parties (The Valspar Corporation); Litton Ind.—Related Parties; Lonza,Inc.; Lukon, Inc.; Lunquist Tool & Manufacturing Co., Inc. (Lutco, Inc.); M.H. Rhodes, Inc.; Macbeth, Div. of Kollmorgen Corp. (Kollmorgen Corporation); Mace Adhesives & Coating Co., Inc.; Maine Pearl Essence; Majilite Co., Division of Kollmorgen Corp. (Kollmorgen Corporation); Markem Corporation; Mead Specialty—Related Parties (Mead Corporation); Miller Container; Mobil Chemical Co.—Related Parties (Exxon Mobil Corporation); Mohawk Finishing Products, Inc.; Monsanto Company—Related Parties (Pharmacia Corporation/Solutia, Inc.); Morton International, Inc.—Related Parties (Rohm and Haas Company); Narragansett Coated Paper Corp.; Nashua Corp.—Related Parties; New England Aircraft Products/Howmet Corp.; New England Etching Company; New England Printed Tape Company, Inc. (NEPTCO Incorporated); Norton Company—Related Parties; Nu-Brite/Sico (Nu-Brite Chemical Company, Inc.) (O.K.P. Inc. f/k/a Kyanize Paint, Inc.); Pacific Anchor Chemical Corporation—Related Parties (Air Products and Chemicals, Inc.); Parker Hannifin—Related Parties; Permacel; Pierce & Stevens Corp.; Photocircuits Corporation (Kollmorgen Corporation); Pitney Bowes, Inc.; Platt & Labonia Company; Plymouth Rubber Company Inc.; Porce-Len, Inc.; Power Semi-Conductors, Inc.—Related Parties; Prime Tanning Company (Berwick, ME); Quality Nameplate, Inc.; Quebecor Printing Providence, Inc.—Related Parties; Raffi & Swanson—Related Parties; Rapid Power Technologies; Reflexite Corporation; Reichhold, Inc. f/k/a Reichhold Chemicals, Inc.; Reliance—Related Parties (Azko Nobel Coatings Inc.); Rex Leather; Rexall Chemical; Sundown Vitamins/Kraft Foods North America, Inc.; Risdon Corp.—Related Parties (Risdon-AMS (USA), Inc.); Robertshaw Controls Co., Milford Div.; Rockbestos Company-Cerrock Wire & Cable (Rockbestos-Surprenant Cable Corp.); Rogers Corporation—Related Parties; Ross & Roberts, Inc.; Roy Brothers, Inc.; Royal

Business—Related Parties (Olivetti Office U.S.A.); Safety Kleen Corp.-Related Parties (Safety Kleen Systems, Inc.); Sanders Associates, Inc. (Lockheed Martin Corporation) (BAE Systems); Sargent Manufacturing Company; Scharr Industries (Illinois Tool Works, Inc.); Scovill—Related Parties (Saltire Industrial, Inc. f/k/a Scovill Inc.); Shell Chemical Company (Shell Oil Company); Sherwin Williams Company, The—Related Parties; Shipley Company LLC; Solvents Recovery Service of New Jersey, Inc. (Safety Kleen Systems, Inc.); Spaulding Co.-Sports Worldwide, Inc.; Specialty Packaging Prod., Div. Ethyl/VCA (Owens-Illinois Inc.); Spectrum Coatings Laboratories, Inc.; Sprague Electric Company—Related Parties (American Annuity Group, Inc.) (Great American Financial Resources, Inc.)(Sprague Electric Technologies); Stanadyne Automotive Corp.; StanChem, Inc.—Related Parties; Stanley Works, The—Related Parties; Strathmore Products, Inc.; Summit Finishing Co.; Sun Chemical Company (Sequa Corporation); Supreme-Lake Mfg., Inc.; Synthetic Products Co. (SPC Divestitures, Inc.); Tapecon, Inc.; Tech Etch, Inc.; Tex-Tech Industries; Troy Mills, Inc.; Tyco Labs—Related Parties (Tyco International (US), Inc.); U.S. Navy Air Station (Quanset Point, RI); U.S. Postal Service; U.S. Postal Service, Vehicle Maintenance Facility; Uncas Manufacturing Company; Union Camp—Related Parties (International Paper Company); United Merchants & Manufacturing, Decora Div. (Decora, Inc.); United Oil Recovery/United Indus. Services Div.; Upaco Adhesives, Inc.; Upjohn Company, The (n/k/a Pharmacia & Upjohn Company); Uretek, Inc.; Vanderbilt Chemical Corporation (R.T. Vanderbilt Company, Inc.); Verla International, Ltd.; Vistron Corporation (Probrush/BP America, Inc.); Vitramon, Inc.; Voltarc Tubes, Inc. (n/k/a PerkinElmer Optoelectronics, Inc.); Voltax Co., Inc., The, by John L. Armitage & Co., Inc.; Wallace Barnes; Wallace Silversmith—Related Parties; Ware Chemical Corporation (Kraft Foods North America, Inc.); Waterbury Companies—Related Parties; Waterbury Plating Company (Nardozzi Realty Co.); Web Technologies, Inc.; Westfield Coatings Corporation—Related Parties; Westvaco Corporation—Related Parties; Weyerhauser Co., Wood Prod. Div.; Weymouth Art Leather Co.; Whittaker Corporation—Related Parties; Winslow Automatics, Inc.; Xidex Corp. (Anacomp, Inc.); Zollo Drum Co.

Dated: May 23, 2002.
Rich Cavagnero,
Acting Director, Office of Site Remediation and Restoration, Region 1.

[FR Doc. 02-17457 Filed 7-10-02; 8:45 am]

BILLING CODE 6560-50-P